DEPARTMENT OF HOMELAND SECURITY

Coast Guard

[Docket No. USCG-2007-0194]

Area Maritime Security Committee, Eastern Great Lakes; and Regional Sub-Committees; Vacancies

AGENCY: Coast Guard, DHS.

ACTION: Request for applications.

SUMMARY: The Coast Guard seeks applications for membership in the Area Maritime Security Committee, Eastern Great Lakes and five regional sub-committees: Northeast Ohio Region, Northwestern Pennsylvania Region, Western New York Region, Lake Ontario Region and St Lawrence Region. The Committee assists the Captain of the Port, Buffalo, in developing, reviewing, and updating the Area Maritime Security Plan for their area of responsibility.

DATES: Requests for membership should reach the U.S. Coast Guard Captain of the Port, Buffalo, on February 7, 2008.

ADDRESSES: Submit applications for membership to the Captain of the Port, Buffalo, Attn: Regional Executive Coordinator, 1 Fuhrmann Boulevard, Buffalo, NY 14203-3189.

FOR FURTHER INFORMATION CONTACT:

Northeast Ohio Region Executive Coordinator—Mr. Peter Killmer at 216-937-0136.

Northwestern Pennsylvania Region Executive Coordinator—Mr. Joseph Fetscher at 216-937-0126.

Northwestern New York Region Executive Coordinator—Mr. Timothy Balunis at 716-843-9559.

Lake Ontario Region Executive Coordinator—Mr. David Mergenthaler at 716-843-9579.

St Lawrence Region Executive Coordinator—Mr. Ralph Kring at 716-843-9326.

SUPPLEMENTARY INFORMATION:

The Committee

The Area Maritime Security Committee, Eastern Great Lakes (the Committee and Sub-Committees), is established under, and governed by, 33 CFR Part 103, subpart C. The functions of the Committee/Sub-Committees include, but are not limited to, the following:

(1) Identifying critical port infrastructure and operations.

(2) Identifying risks (i.e., threats, vulnerabilities, and consequences).

(3) Determining strategies and implementation methods for mitigation.

(4) Developing and describing the process for continuously evaluating overall port security by considering consequences and vulnerabilities, how they may change over time, and what additional mitigation strategies can be applied.

(5) Advising and assisting the Captain of the Port in developing, reviewing, and updating the Area Maritime Security Plan under 33 CFR Part 103, subpart E.

Positions Available on the Committee

There are 10 vacancies on the Eastern Great Lakes Committee. These vacancies will be the Chairperson and Vice-Chairperson from the five regional subcommittees: Northeast Ohio Region, Northwestern Pennsylvania Region, Western New York Region, Lake Ontario Region and St Lawrence Region. Members may be selected from:

(1) The Federal, Territorial, or Tribal government;

(2) The State government and political subdivisions of the State;

(3) Local public safety, crisis management, and emergency response agencies;

(4) Law enforcement and security organizations;

(5) Maritime industry, including labor;

(6) Other port stakeholders having a special competence in maritime security; and

(7) Port stakeholders affected by security practices and policies.

In support of the Coast Guard's policy on gender and ethnic diversity, we encourage qualified women and members of minority groups to apply.

Qualification of Members

Members must have at least 5 years of experience related to maritime or port security operations. Applicants may be required to pass an appropriate security background check before appointment to the Committee/Sub-Committees. Applicants must register and remain active as Coast Guard Homeport users if appointed.

The term of office for each vacancy is 5 years. However, a member may serve one additional term of office. Members are not salaried or otherwise compensated for their service on the Committee/Sub-Committees.

Format of Applications

Applications for membership may be in any format. However, because members must demonstrate an interest in the security of the area covered by the Committee/Regional Sub-Committees, we particularly encourage the submission of information highlighting experience in maritime or security matters.

Authority

Section 102 of the Maritime Transportation Security Act of 2002 (Pub. L. 107-295) (the Act) authorizes the Secretary of the Department in which the Coast Guard is operating to establish Area Maritime Security Committees for any port area of the United States. See 33 U.S.C. 1226; 46 U.S.C. 70112(a)(2); 33 CFR 103.205; Department of Homeland Security Delegation No. 0170.1. The Act exempts Area Maritime Security Committees from the Federal Advisory Committee Act (FACA), 5 U.S.C. App. (Pub. L. 92-463).

Dated: December 11, 2007.
S.J. Ferguson,
Captain, U.S. Coast Guard, Captain of the Port, Buffalo.

[FR Doc. E8-108 Filed 1-7-08; 8:45 am]

BILLING CODE 4910-15-P